DEPARTMENT OF COMMERCE

Bureau of Industry and Security

President's Export Council Subcommittee on Export Administration; Notice of Open Meeting

The President's Export Council Subcommittee on Export Administration (PECSEA) will meet on September 18, 2013, 10 a.m., at the U.S. Department of Commerce, Herbert C. Hoover Building, Room 3884, 14th Street between Pennsylvania and Constitution Avenues NW., Washington, DC. The PECSEA provides advice on matters pertinent to those portions of the Export Administration Act, as amended, that deal with United States policies of encouraging trade with all countries with which the United States has diplomatic or trading relations and of controlling trade for national security and foreign policy reasons.

Agenda:

1. Opening remarks by the Chairman.

2. Opening remarks by the Bureau of Industry and Security.

3. Export Control Reform Update.

4. Presentation of papers or comments by the Public.

5. Subcommittee Updates.

The open session will be accessible via teleconference to 20 participants on a first come, first served basis. To join the conference, submit inquiries to Ms.Yvette Springer at Yvette.Springer@bis.doc.gov, no later than September 11, 2013.

A limited number of seats will be available for the public session. Reservations are not accepted. To the extent time permits, members of the public may present oral statements to the PECSEA. Written statements may be submitted at anytime before or after the meeting. However, to facilitate distribution of public presentation materials to PECSEA members, the PECSEA suggests that public presentation materials or comments be forwarded before the meeting to Ms. Yvette Springer.

FOR FURTHER INFORMATION CONTACT: Yvette Springer on 202-482-2813.

Dated: August 29, 2013.
Kevin J. Wolf,
Assistant Secretary for Export Administration.

[FR Doc. 2013-21461 Filed 9-3-13; 8:45 am]

BILLING CODE 3510-JT-P